DEPARTMENT OF HEALTH AND HUMAN SERVICES

Centers for Medicare & Medicaid Services

Privacy Act of 1974; CMS Computer Match No. 2016-07; HHS Computer Match No. 1602; Effective Date—April 2, 2016; Expiration Date—October 2, 2017

AGENCY: Centers for Medicare & Medicaid Services (CMS), Department of Health and Human Services (HHS).

ACTION: Notice of Computer Matching Program.

SUMMARY: In accordance with the requirements of the Privacy Act of 1974, as amended, this notice announces the establishment of a computer matching program that CMS plans to conduct with the Defense Enrollment Eligibility Reporting System (DEERS), Defense Manpower Data Center (DMDC), Department of Defense (DoD).

DATES: Comments are invited on all portions of this notice. Submit public comments on or before April 1, 2016. This computer matching program will become effective no sooner than 40 days after the report of the computer matching program is sent to the Office of Management and Budget (OMB) and copies of the agreement are sent to Congress, or 30 days after publication in the Federal Register, whichever is later.

ADDRESSES: The public should send comments to: CMS Privacy Officer, Division of Security, Privacy Policy and Governance, Information Security and Privacy Group, Office of Enterprise Information, CMS, Room N1-24-08, 7500 Security Boulevard, Baltimore, Maryland 21244-1850. Comments received will be available for review at this location, by appointment, during regular business hours, Monday through Friday from 9:00 a.m.-3:00 p.m., Eastern Time zone.

FOR FURTHER INFORMATION CONTACT: Elizabeth Kane, Acting Director, Verifications Policy & Operations Division, Eligibility and Enrollment Policy and Operations Group, Center for Consumer Information and Insurance Oversight, CMS, 7501 Wisconsin Avenue, Bethesda, MD 20814, Office Phone: (301) 492-4418, Facsimile: (443) 380-5531, E-Mail: Elizabeth.Kane@cms.hhs.gov.

SUPPLEMENTARY INFORMATION: The Computer Matching and Privacy Protection Act of 1988 (Pub. L. 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that their records are subject to matching; and,

5. Verify match findings before reducing, suspending, terminating, or denying an individual's benefits or payments.

This computer matching program meets the requirements of the Privacy Act of 1974, as amended.

Walter Stone,
CMS Privacy Officer, Centers for Medicare & Medicaid Services.

CMS Computer Match No. 2016-07

HHS Computer Match No. 1602

Name: “Computer Matching Agreement between the Department of Health and Human Services, Centers for Medicare & Medicaid Services and the Department of Defense, Defense Manpower Data Center, for Verification of Eligibility For Minimum Essential Coverage Under The Patient Protection And Affordable Care Act Through a Department of Defense Health Benefits Plan.”

SECURITY CLASSIFICATION:

Unclassified.

PARTICIPATING AGENCIES:

Department of Health and Human Services (HHS), Centers for Medicare & Medicaid Services (CMS), and the Department of Defense (DoD), Defense Manpower Data Center (DMDC).

AUTHORITY FOR CONDUCTING MATCHING PROGRAM:

Sections 1411 and 1413 of the Patient Protection and Affordable Care Act of 2010 (Pub. L. 111-148), as amended by the Health Care and Education Reconciliation Act of 2010 (Pub. L. 111-152) (collectively, the ACA) require the Secretary of HHS to establish a program for applying for and determining eligibility for applicable State health subsidy programs and authorize the use of secure, electronic interfaces and an on-line system for the verification of eligibility.

The Computer Matching and Privacy Protection Act of 1988 (CMPPA) (Pub. L. 100-503), amended the Privacy Act (5 U.S.C. 552a) and requires the parties participating in a matching program to execute a written agreement specifying the terms and conditions under which the matching will be conducted. CMS has determined that status verification checks to be conducted by the CMS Federal Data Services Hub and Federally-facilitated Exchange using the data source provided to CMS by DoD constitute a “computer matching program” as defined in the CMPPA.

PURPOSE(S) OF THE MATCHING PROGRAM:

The purpose of the Computer Matching Agreement is to establish the terms, conditions, safeguards, and procedures under which the DoD will provide records, information, or data to CMS for verifying eligibility for minimum essential coverage through a TRICARE Health Care Program. A TRICARE Health Care Program constitutes minimum essential coverage as defined in Section 5000A(f) of the Internal Revenue Code of 1986, 26 U.S.C. 5000A, as amended by § 1501 of the ACA. The DoD data will be used by (1) CMS in its capacity as a Federally-facilitated Exchange and the Federal eligibility and enrollment platform, and (2) agencies administering applicable State health subsidy programs. These entities will receive the results of verifications using information received by CMS through the CMS Federal Data Services Hub from Applicants and Enrollees that will be matched with the DoD data.

DESCRIPTION OF RECORDS TO BE USED IN THE MATCHING PROGRAM:

This computer matching program will be conducted with data maintained by CMS in the Health Insurance Exchanges Program, CMS System No. 09-70-0560, as amended. The system is described in System of Records Notice published at 78 FR 63211 (Oct. 23, 2013).

This computer matching program will also be conducted with data maintained in the Defense Enrollment Eligibility Reporting Systems (DEERS), System No. DMDC 02 DoD, published November 04, 2015, 80 FR 68304, located at the DISA DECC Columbus in Columbus, OH. Routine Use 6f supports DoD's disclosure to CMS.

INCLUSIVE DATES OF THE MATCH:

This computer matching program will become effective no sooner than 40 days after the report of the computer matching program is sent to the Office of Management and Budget and copies of the agreement are sent to Congress, or 30 days after publication in the Federal Register, whichever is later. The matching program will continue for 18 months from the effective date and may be extended for an additional 12 months thereafter, if certain conditions are met.

[FR Doc. 2016-04734 Filed 3-2-16; 8:45 am]

BILLING CODE 4120-03-P